DEPARTMENT OF DEFENSE

Department of the Air Force

[Docket ID: USAF-2018-HQ-0004]

Submission for OMB Review; Comment Request

AGENCY: Office of the Secretary of the Air Force, Department of Defense (DoD).

ACTION: 30-Day information collection notice.

SUMMARY: The Department of Defense has submitted to OMB for clearance the following proposal for collection of information under the provisions of the Paperwork Reduction Act.

DATES: Consideration will be given to all comments received by July 30, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION:

Title; Associated Form; and OMB Number: Air Force Recruiting Information Support System—Total Force (AFRISS-TF); OMB Control Number 0701-0150.

Type of Request: Renewal with Change.

Number of Respondents: 100,000.

Responses per Respondent: 1.

Annual Responses: 100,000.

Average Burden per Response: 15 minutes.

Annual Burden Hours: 25,000 hours.

Needs and Uses: Recruiting requires the collection of specific information on prospective Air Force, Air National Guard, and Air Force Reserve Command enlistees, officers, and health profession personnel entering into duty. The information is used to create the initial personnel record that is used to prescreen and qualify enlistees, line officers, and health professionals fit for service and ultimately induction into one of the three Air Force commands. The information is also collected to process security clearances for those individuals requiring clearances for sensitive and classified positions. The respondents are recruiting applicants of the Air Force who may seek more information or request copies of their personal information. The collection instrument is a list of questions asked by the recruiter that cannot be found on the SF-86; information taken from the SF-86 can complete the rest of the recruit's application. Collections instruments are completed by applicants and recruiters into the system of record as applicable to their recruiting and application purposes. All completed instruments of collection reside in the system of record which has safeguards in place to protect privacy information. The end result of a successful information collection is the successful accession of an applicant in the Air Force and the safe keeping of said applicant's personal information.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: June 25, 2020.
Aaron T. Siegel,
Alternate OSD Federal Register Liaison Officer, Department of Defense.

[FR Doc. 2020-14083 Filed 6-29-20; 8:45 am]

BILLING CODE 5001-06-P